DEPARTMENT OF TRANSPORTATION

Federal Aviation Administration

Notice of Intent To Rule on a Request for Change in Designation of On-Airport Property Purchased With Airport Improvement Program (AIP) Funding From Aeronautical to Non-Aeronautical at the Lancaster Airport, Lititz, PA

AGENCY: Federal Aviation Administration (FAA), DOT.

ACTION: Notice of a request for a change in designation of on-airport property purchased with AIP funding from aeronautical to non-aeronautical use.

SUMMARY: The FAA is requesting public comment on the Lancaster Airport Authority's proposal to change 6.191 acres of airport property at Lancaster Airport, Lititz, Pennsylvania from aeronautical to non-aeronautical use. This acreage was purchased with federal financial assistance through the Airport Improvement Program under Grant Agreements 3-42-0049-13-95, 3-42-0049-16-98, and 3-42-0049-19-01 under 49 U.S.C. 47107(c). In accordance with 49 U.S.C. 47107(h), this notice is required to be published in the Federal Register 30 days before modifying the land-use assurance that requires the property to be used for an aeronautical purpose.

DATES: Comments must be received on or before January 28, 2016.

ADDRESSES: Comments on this application may be mailed or delivered to the following address: David Eberly, Manager, Lancaster Airport, 500 Airport Road, Suite G, Lititz, PA 17543-9340, 717-569-1221 and at the FAA Harrisburg Airports District Office: Lori K. Pagnanelli, Manager, Harrisburg Airports District Office, 3905 Hartzdale Dr., Suite 508, Camp Hill, PA 17011, (717) 730-2830.

FOR FURTHER INFORMATION CONTACT: Charles Sacavage, Project Manager, Harrisburg Airports District Office, location listed above.

The request for change in designation of on-airport property may be reviewed in person at this same location.

SUPPLEMENTARY INFORMATION:

The following is a brief overview of the request:

The Lancaster Airport Authority requests to change the designation of 6.191 acres of on-airport property from aeronautical to non-aeronautical use. No land shall be sold as part of this land request. The property is situated on the northwest corner of the intersection of Stauffer Road and Millport Road in Warwick Township. The 6.191 acres are part of a 29.855 acre parcel that was purchased on June 27, 1997 to protect the Runway 26 Runway Protection Zone (RPZ) from incompatible development. The subject area itself, however, is located outside the designated RPZ. The 6.191 acre area requested to be designated as non-aeronautical is unable to be utilized for aviation purposes because it is located across a public road (Millport Road) from the air operations area and is inaccessible by aircraft. The subject acreage is currently being used as a yard waste reclamation collection center. The purpose of this request is to permanently change the designation of the property given there is no potential for future aviation use, as demonstrated by the Airport Layout Plan. Subsequent to the implementation of the proposed redesignation, rents received by the airport from this property must be used in accordance with FAA's Policy and Procedures Concerning the Use of Airport Revenue, published in the Federal Register on February 16, 1999.

Any person may inspect the request by appointment at the FAA office address listed above. Interested persons are invited to comment. All comments will be considered by the FAA to the extent practicable.

Issued in Camp Hill, Pennsylvania, December 17, 2015.
Lori K. Pagnanelli,
Manager, Harrisburg Airports District Office.

[FR Doc. 2015-32641 Filed 12-28-15; 8:45 am]

BILLING CODE 4910-13-P